DEPARTMENT OF COMMERCE

National Oceanic and Atmospheric Administration

RIN 0648-XR53

Magnuson-Stevens Act Provisions; General Provisions for Domestic Fisheries; Application for Exempted Fishing Permits (EFPs)

AGENCY: Department of Commerce, National Oceanic and Atmospheric Administration (NOAA), National Marine Fisheries Service (NMFS).

ACTION: Notification of a proposal for an EFP to conduct exempted fishing; request for comments.

SUMMARY: The Assistant Regional Administrator for Sustainable Fisheries, Northeast Region, NMFS (Assistant Regional Administrator), has made a preliminary determination that the subject EFP application that was submitted by the Cornell Cooperative Extension of Suffolk County Marine Program (CCE) warrants further consideration and should be issued for public comment. The EFP would exempt participating vessels from summer flounder size restrictions and summer flounder mesh-size restrictions. The Assistant Regional Administrator has also made a preliminary determination that the activities authorized under the EFP would be consistent with the goals and objectives of the Summer Flounder, Scup, and Black Sea Bass Fishery Management Plan (FMP). However, further review and consultation may be necessary before a final determination is made.

DATES: Comments must be received on or before October 9, 2009.

ADDRESSES: Comments may be submitted by e-mail. The mailbox address for providing e-mail comments is nero.efp@noaa.gov. Include in the subject line of the e-mail comment the following document identifier: “Comments on CCE Offshore Fluke Discard EFP.” Written comments should be sent to Patricia A. Kurkul, Regional Administrator, NMFS, Northeast Regional Office, 55 Great Republic Drive, Gloucester, MA 01930. Mark the outside of the envelope, “Comments on CCE Offshore Fluke Discard EFP.” Comments may also be sent via facsimile (fax) to (978) 281-9135.

FOR FURTHER INFORMATION CONTACT: Sarah Bland, Fishery Management Specialist, (978) 281-9257.

SUPPLEMENTARY INFORMATION: A complete application for an EFP was submitted by CCE on August 31, 2009, for a study that would evaluate summer flounder discard mortality in the offshore winter trawl fishery off Long Island, NY. The EFP would be issued to an initial list of seven vessels.

Research trips would be conducted as normal fishing operations, modified only by standardized tow times and deck cull times, in the offshore winter trawl fishery off Long Island, NY. Research trips would occur south and east of Long Island, NY, between Veatch Canyon and Hudson Canyon, in statistical areas 616, 526, 537, 613, and 611. One to two trips would be made each month, beginning in October 2009, and continuing through April 2010, for a total of eight trips. Four trips would occur during normal fishing operations targeting Loligo squid using small-mesh gear, and four trips would target summer flounder using large-mesh gear. Trips are expected to take 2 days due to steaming time to and from winter fishing grounds; however, poor weather conditions may lengthen trip times.

For each trip, vessels would conduct three tows of 1, 2, and 3-hr durations. For each tow, two culls would be performed; an immediate cull and a delayed 30-min cull. Ten legal-sized summer flounder and 10 sub-legal sized summer flounder would be randomly collected from each cull, for a total of 20 fish per tow. If there are not 10 sub-legal sized summer flounder available, additional legal-sized summer flounder would be kept to maintain the random sampling at 20 fish per tow. Summer flounder would be randomly selected using sub-sampling and random sampling guidelines established by the NMFS At-Sea Observer Program. In addition to the random sample, 10 jumbo market category summer flounder (greater than 4 lb (1.81 kg) or 55 cm) would be collected per tow.

Summer flounder collected would be measured, weighed, and their physical condition noted. Fish would be tagged at the dorsal area of the eyed-side anterior of the caudal peduncle with a Floy-FD-94 Super Heavy Duty T-Bar Anchor Tag and transferred to an on-board holding tank. During the time it takes to clear the deck of catch, summer flounder would be sorted into live and dead components on set time intervals, in addition to immediate and delayed cull times. Information on tow duration, location, boat and gear specifics, fishing speed, total volume of the catch and discards, depth and surface water temperatures, and on-deck air temperature would be recorded. The applicant anticipates that catch species would include a mix of summer flounder, scup, black sea bass, butterfish, whiting, and Loligo squid.

Collected fish would be transported from the on-board holding tanks to the Multi Aquaculture Systems, Inc., facility. Fish would be monitored for a 14-day period. Any fish still alive after the monitoring period would be examined and ranked according to a health index, and blood would be drawn for cortisol analysis. These fish would then be released into Gardiners Bay from the holding facility. The applicant anticipates that, although fish would be released inshore during winter or early spring, some of these fish would survive. Scales and otoliths would be taken from those fish not surviving the monitoring period. Up to 180 fish would be landed for the extended mortality monitoring period, and the applicant anticipates the mortality rate would be between 75 and 90 percent.

The applicant has requested an exemption from the summer flounder size restrictions at § 648.103 to allow sub-legal sized fish to be retained for data collection purposes. The applicant has also requested an exemption from the summer flounder mesh size restrictions at § 648.104(a)(1) to allow vessels targeting squid in the small-mesh fishery to retain more than the incidental limit of summer flounder. In addition, the applicant requested an exemption from the summer flounder fishery closure restrictions at § 648.101(a) and (b) to allow summer flounder to be landed during a closure and transported to the Multi Aquaculture Systems facility for mortality observations. However, the regulations at § 648.12(a)(2) prevent NMFS from issuing an EFP that would cause a quota to be exceeded; therefore, unless research set-aside quota is made available to this project, no exemption from fishery closure restrictions would be granted.

The applicants may request minor modifications and extensions to the EFP throughout the course of research. EFP modifications and extensions may be granted without further public notice if they are deemed essential to facilitate completion of the proposed research and result in only a minimal change in the scope or impacts of the initially approved EFP request.

Authority: 16 U.S.C. 1801 et seq.

Dated: September 21, 2009.
Emily H. Menashes,
Acting Director, Office of Sustainable Fisheries, National Marine Fisheries Service.

[FR Doc. E9-23064 Filed 9-23-09; 8:45 am]

BILLING CODE 3510-22-S